DEPARTMENT OF THE INTERIOR

Bureau of Land Management

[LLESM03300.L14400000.FR0000 FLES-5859 19X]

Notice of Realty Action: Competitive Lease of Land and Equestrian Facility at Lorton, VA

AGENCY: Bureau of Land Management, Interior.

ACTION: Notice of realty action.

SUMMARY: The Bureau of Land Management (BLM) proposes to offer approximately 46 acres of public lands for lease of an equestrian facility located at the Meadowood Special Recreation Management Area (SRMA) in Lorton, Virginia. The lease would be issued for a period of 10 years, which may be renewed at the discretion of the BLM. To be considered, all bids must be at not less than the appraised fair market value. The appraised rental value for the above-described land and equestrian facility is $26,000 per year. The proposed lease will be subject to the applicable provisions of the Federal Land and Policy Management Act of 1976 (FLPMA).

DATES: Lease applications for use of the equestrian facilities will be competitive, with all bids sealed until November 12, 2019. Lease applications and sealed bids must be received by the BLM, Northeastern States District by no later than 4:00 p.m. Central Time on November 12, 2019. The BLM will start accepting lease applications and sealed bids on October 15, 2019. This deadline for submission of a lease application and sealed bids will be announced in the Fairfax County Times and on the BLM Eastern States website: https://www.blm.gov/eastern-states, at least 30 days prior to lease bid closing date.

On or before October 28, 2019, interested parties may submit comments on the decision of the BLM regarding the availability of the lands described herein for lease; and the prospective decision of the BLM to entertain applications for a competitive bid for the land and facilities as described in the above summary section to the BLM at the addresses listed in the ADDRESSES section:

Submit comments on this proposal to lease to the address listed.

ADDRESSES: You may submit written comments on the proposed realty action, and submit lease applications and sealed bids to the District Manager, BLM Northeastern States District, 626 E Wisconsin Ave, Suite 200, Milwaukee, WI 53202. Copies of maps that depict the facilities offered under this lease, the applicable regulations, and further details, including the lease agreement, are available on the BLM Eastern States website: https://www.blm.gov/eastern-states. This information is also available for review during normal business hours (8:00 a.m. to 4:30 p.m. ET Monday through Friday) at the Lower Potomac Field Station office located at the Meadowood SRMA, 10406 Gunston Road, Lorton, Virginia.

FOR FURTHER INFORMATION CONTACT: Dean Gettinger, BLM, at telephone: 414-297-4421, email: dgettinger@blm.gov. Persons who use a telecommunications device for the deaf (TDD) may call the Federal Relay Service (FRS) at 1-800-877-8339 to contact Mr. Gettinger during normal business hours. The FRS is available 24 hours a day, 7 days a week, to leave a message or question. You will receive a reply during normal business hours. Copies of these maps are available for inspection at the SRMA, located at 10406 Gunston Road, Lorton, Virginia, and by email, or telephone request.

SUPPLEMENTARY INFORMATION: The BLM proposes to offer for lease a 46-acre equestrian facility, comprised of a 45-stall horse barn with two indoor arenas, a six-stall pole barn, a lighted outdoor arena, several other supporting structures, and approximately 44.3 acres of fenced pastures and paddocks, all located at the Meadowood SRMA. The facilities offered under this proposed lease are depicted on the maps “Meadowood Equestrian Facility” (Figure 1) and Meadowood Equestrian Facility Buildings” (Figure 2). To obtain copies of the maps, see ADDRESSES.

After review, the BLM has determined that the proposed use of the equestrian facility is in conformance with the applicable BLM land use plan; i.e., the Meadowood Special Recreation Management Area Integrated Activity Management Plan/Environmental Assessment, approved by Record of Decision on May 28, 2004, which allows for an equestrian lease, and complies with Section 302(b) of FLPMA. This proposed use is in accordance with Department of Interior Secretarial Order 3373 (SO 3373), which seeks to increase outdoor recreation opportunities for all Americans by ensuring continued access to public land and waters managed by the Department. This action will sustain recreational equestrian use that has been ongoing in this area since before the BLM acquired the property in a lands exchange with Fairfax County, dated October 18, 2001.

A competitive leasing process will be used to ensure fairness because the BLM is aware of multiple parties who have interest in commercially operating this equestrian facility. The successful lessor will support conservation stewardship, and emphasize the core principles of SO 3373 by being a good neighbor to all adjacent landowners, whether they may be Federal, State, county, or private landowners. Application and Bid procedures: Applications must supply the bidder's technical and financial capability for the term of the lease, qualifications, experience and a description of their proposed operation. Sealed bids must be for not less than the appraised fair market value rent of $26,000. The lease application and bid must include a reference to this notice and comply in all other respects with the regulations pertaining to land use authorization applications at 43 CFR 2920.5-2.

In accordance with 43 CFR 2920.8, rent will be payable annually or otherwise in advance, as determined by the BLM, and may be periodically adjusted every 5 years or earlier to reflect current fair market value. When a lease is granted, the lessee shall reimburse the United States for all reasonable administrative and other costs incurred by the United States in processing the lease application and for monitoring of the land and the facilities authorized. The reimbursement of costs shall be in accordance with the provisions of 43 CFR 2920.6.

The lease application and each sealed bid must include a certified check, money order, bank draft, or cashier's check for a non-refundable processing fee of $440 made payable in U.S. currency to: “Department of the Interior-Bureau of Land Management.” The check and all documents must be enclosed in a sealed envelope with the name “Meadowood Equestrian Land Use Application” written on the lower front left-hand corner of the envelope. The BLM will not accept personal or company checks. The BLM will also subsequently determine cost recovery fees for processing and monitoring the action.

The lease shall be awarded on the basis of the public benefit to be provided, the financial and technical capabilities of the bidder to undertake the project, and the bid offered. Applicants can demonstrate this capability by documenting in their bid package any previous successful experience in the operation and maintenance of similar facilities on public or non-public lands; providing information on the availability of sufficient capitalization to carry out the operation and maintenance of the facility; and providing written copies of conditional commitments of Federal and other loan guarantees or other documentation demonstrating the availability of financial resources.

All bidders will receive written notice of the results within 30 days after closing of the bid period. The winning bidder will work with the BLM to enter into a lease and a cost-recovery agreement to cover annual monitoring costs on the equestrian facility. In addition, subsequent annual payments to monitor the operations and maintenance of the equestrian facility will be paid in advance and simultaneously with annual rental payments. The reimbursement of costs shall be in accordance with the provisions of 43 CFR part 2920.6. The winning bidder will also be required to obtain a performance and reclamation bond and insurance prior to lease issuance. If the winning bidder is unable to complete the lease authorization process for any reason, the BLM may offer the lease to the next highest bidder.

Federal law requires that a bidder must be: (1) A citizen of the United States who is 18 years of age or older; (2) A corporation subject to the laws of any State or of the United States; (3) A State, State instrumentality or political subdivision authorized to hold property; or (4) An entity legally capable of conveying and holding lands or interest therein under the laws of the Commonwealth of Virginia. Evidence of United States citizenship is a birth certificate, passport, or naturalization papers. Failure to submit the above documents to the BLM within 30 days from receipt of the successful bidder letter will result in rejection of the lease application and bid.

If authorized, the lease will be subject to reservations for road, public utilities and flood control purposes, both existing and proposed. The lease will also be subject to valid existing rights, including:

(1) Liquefied Natural Gas pipeline easement to Columbia Liquefied Natural Gas along the northeastern boundary (along Gunston Road); and

(2) Dominion Energy electrical easement along the northeastern boundary.

All areas not under a lease at the SRMA are available for public use.

Submit comments on this proposal to lease to the address listed in the ADDRESSES section. Only written comments will be considered properly filed. Before including your address, phone number, email address, or other personally identifiable information in your comment you should be aware that your entire comment, including your personally identifiable information may be made publicly available at any time. While you can ask us in your comment to withhold your personally identifiable information from the public review, we cannot guarantee that we will be able to do so.

Adverse comments will be evaluated by the BLM Eastern State's State Director, 20 M Street SE, Washington, DC 20003, who may sustain, vacate, or modify this realty action. In the absence of any adverse comment, this realty action will become the final determination of the BLM as to each one of the two decisions stated above.

Authority: 43 CFR 2920.4.

Dean Gettinger,
District Manager, Northeastern States District.

[FR Doc. 2019-19634 Filed 9-12-19; 8:45 am]

BILLING CODE 4310-GJ-P